INTERNATIONAL TRADE COMMISSION

[Investigation Nos. 701-TA-571-572 and 731-TA-1347-1348 (Review)]

Biodiesel From Argentina and Indonesia

Determinations

On the basis of the record ¹ developed in the subject five-year reviews, the United States International Trade Commission (“Commission”) determines, pursuant to the Tariff Act of 1930 (“the Act”), that revocation of the antidumping and countervailing duty orders on biodiesel from Argentina and Indonesia would be likely to lead to continuation or recurrence of material injury to an industry in the United States within a reasonably foreseeable time.

¹ The record is defined in § 207.2(f) of the Commission's Rules of Practice and Procedure (19 CFR 207.2(f)).

Background

The Commission instituted these reviews on December 1, 2022 (87 FR 73781) and determined on March 6, 2023 that it would conduct expedited reviews (88 FR 19668, April 3, 2023).

The Commission made these determinations pursuant to section 751(c) of the Act (19 U.S.C. 1675(c)). It completed and filed its determinations in these reviews on June 2, 2023. The views of the Commission are contained in USITC Publication 5428 (June 2023), entitled Biodiesel from Argentina and Indonesia: Investigation Nos. 701-TA-571-572 and 731-TA-1347-1348 (Review).

By order of the Commission.
Issued: June 2, 2023.
Lisa Barton,
Secretary to the Commission.

[FR Doc. 2023-12222 Filed 6-7-23; 8:45 am]

BILLING CODE 7020-02-P